GENERAL SERVICES ADMINISTRATION

[FMR Bulletin 2009-B1]

Protecting Federal Employees and the Public From Exposure to Tobacco Smoke in the Federal Workplace

AGENCY: General Services Administration.

ACTION: Notice.

SUMMARY: This bulletin cancels and replaces GSA Bulletin FPMR D-245, Protecting Federal Employees and the Public From Exposure to Tobacco Smoke in the Federal Workplace, which was published in the Federal Register on October 20, 1997 (62 FR 54461). This bulletin announces and provides details of a recent amendment to Federal Management Regulation, Part 102-74, Facility Management, revising the restrictions on the smoking of tobacco products in leased or owned space under the jurisdiction, custody or control of the Administrator of General Services. The revisions to the smoking policy also serve as a best practices model for other federal agencies.

DATES: Effective Date: December 22, 2008.

FOR FURTHER INFORMATION CONTACT: For further clarification of content, contact Stanley C. Langfeld, Director, Regulations Management Division (MPR), General Services Administration, Washington, DC 20405; or stanley.langfeld@gsa.gov.

Dated: December 11, 2008.
Gary Klein,
Associate Administrator, Office of Governmentwide Policy.

GENERAL SERVICES ADMINISTRATION

[GSA FMR Bulletin 2009-B1]

Public Buildings and Space

TO: Heads of Executive Agencies.

SUBJECT: Protecting Federal Employees and the Public From Exposure to Tobacco Smoke in the Federal Workplace.

1. Purpose. This bulletin announces the policy concerning the protection of federal employees and the public from exposure to tobacco smoke in the federal workplace.

2. Expiration Date. This bulletin contains information of a continuing nature and will remain in effect until canceled.

3. Background.

a. On August 9, 1997, President Clinton signed Executive Order (EO) 13058, entitled ”Protecting Federal Employees and the Public From Exposure to Tobacco Smoke in the Federal Workplace,” to establish a smoke-free environment for federal employees and members of the public visiting or using federal facilities (62 FR 43451, August 13, 1997).

b. On October 20, 1997, the U.S. General Services Administration (GSA) issued GSA Bulletin FPMR D-245, “Protecting Federal Employees and the Public from Exposure to Tobacco Smoke in the Federal Workplace” (62 FR 54461). In accordance with the requirements of EO 13058, GSA Bulletin FPMR D-245 prohibited the smoking of tobacco products in all interior space owned, rented or leased by the executive branch of the Federal Government, except in specially-equipped designated smoking areas, outdoor areas in front of air intake ducts and certain other residential and non-federal occupied space. The bulletin also required the heads of executive agencies to evaluate the need to restrict smoking in courtyards and near doorways.

c. Studies conducted since the issuance of GSA Bulletin FPMR D-245 have concluded that cigarette smoking is the number one preventable cause of morbidity and premature mortality worldwide. Studies also have shown that the harmful effects of smoking are not confined solely to the smoker, but extend to co-workers and members of the general public who are exposed to secondhand smoke as well. Recognition of these facts is evidenced by the stricter laws on smoking enacted by several states over the past ten years. Twenty-six states have banned smoking entirely in all of their state government buildings and 19 have banned smoking in all private work places.

d. EO 13058 encourages the heads of executive agencies to evaluate the need to further restrict smoking at doorways and in courtyards under executive branch control and authorizes the agency heads to restrict smoking in these areas in light of this evaluation.

e. The policy requirements announced by this bulletin are applicable to leased or owned space under the jurisdiction, custody or control of GSA. In addition, federally leased space located in a privately owned building is subject to state and local government smoking restrictions, if the restrictions are more stringent than the federal policy.

f. The revisions to the previous smoking policy may affect conditions of employment for employees. Where there is an exclusive representative for the employees, executive branch agencies will be required to meet their collective bargaining obligations under the Federal Service Labor-Management Relations Act, as amended, 5 U.S.C. Ch. 71, Labor-Management Relations, before the revisions to the previous smoking policy can be implemented.

4. Action.

a. As ordered by EO 13058, it is the policy of the executive branch to establish a smoke-free environment for federal employees and members of the public visiting or using federal facilities. In furtherance of this policy, executive agencies must prohibit the smoking of tobacco products in all interior space owned, rented or leased by the executive branch of the Federal Government, and in any outdoor areas under executive branch control in front of air intake ducts. In addition, effective [insert date 6 months after publication of FMR amendment on smoking, FMR Case 2008-102-3], smoking is prohibited in courtyards and within 25 feet of doorways and air intake ducts on outdoor space under the jurisdiction, custody or control of GSA. This date provides a six-month phase-in period and is designed to establish a fixed but reasonable time for implementing this policy change. This phase-in period will provide agencies with time to comply with their obligations under the Federal Service Labor-Management Relations Act, as amended, 5 U.S.C. Ch. 71, Labor-Management Relations, in those circumstances where there is an exclusive union representative for the employees.

b. The only exceptions to the general policy against smoking as described in EO 13058 and this bulletin are:

(1) Residential accommodations for persons voluntarily or involuntarily residing, on a temporary or long-term basis, in a building owned, leased or rented by the Federal Government;

(2) Portions of federally owned buildings leased, rented or otherwise provided in their entirety to non-federal parties; and

(3) Places of employment in the private sector or in other non-Federal Governmental units that serve as the permanent or intermittent duty station of one or more federal employees.

c. The exception in the Federal Management Regulation (FMR) for designated smoking areas, 41 CFR 102-74.320(a), is being eliminated. Accordingly, all designated interior smoking areas will be closed [insert date 6 months after publication of FMR amendment on smoking, FMR Case 2008-102-3]. This date provides a six-month phase-in period and is designed to establish a fixed but reasonable time for implementing this policy change. This phase-in period will provide agencies with time to comply with their obligations under the Federal Service Labor-Management Relations Act, as amended, 5 U.S.C. Ch. 71, Labor-Management Relations, in those circumstances where there is an exclusive union representative for the employees.

d. Executive agency heads may establish limited and narrow exceptions that are necessary to accomplish agency missions. Such exceptions must be in writing, approved by the agency head and, to the fullest extent possible, provide protection of non-smokers from exposure to environmental tobacco smoke. Authority to establish such exceptions may not be delegated.

e. The heads of executive agencies are encouraged to use existing authority to establish programs designed to help employees stop smoking. Cessation program materials for agencies interested in establishing a smoking cessation program for their employees are available from the Department of Health and Human Services, Centers for Disease Control and Prevention, Web site at http://www.cdc.gov/tobacco/quit_smoking/index.htm. This Web site also identifies several How to Quit resources for individuals interested in smoking cessation.

f. The heads of executive agencies are responsible for ensuring compliance with the requirements of this bulletin.

[FR Doc. E8-30377 Filed 12-19-08; 8:45 am]

BILLING CODE 6820-RH-P